DEPARTMENT OF ENERGY

Federal Energy Regulatory Commission

Combined Notice of Filings

Take notice that the Commission has received the following Natural Gas Pipeline Rate and Refund Report filings:

Filings Instituting Proceedings

Docket Numbers: RP23-446-000.

Applicants: LA Storage, LLC.

Description: § 4(d) Rate Filing: Filing of Negotiated Rate, Conforming IW Agreements 2.17.23 to be effective 2/18/2023.

Filed Date: 2/17/23.

Accession Number: 20230217-5046.

Comment Date: 5 p.m. ET 3/1/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-1072-002.

Applicants: Tuscarora Gas Transmission Company.

Description: Compliance filing: Section 4 Rate Case Compliance to Place Revised Rates in Effect RP22-1072 to be effective 2/1/2023.

Filed Date: 1/31/23.

Accession Number: 20230131-5217.

Comment Date: 5 p.m. ET 2/24/23.

Docket Numbers: RP22-1155-000.

Applicants: Northwest Pipeline LLC.

Description: Refund Report: Report of Federal Income Tax Refunds to be effective N/A.

Filed Date: 1/31/23.

Accession Number: 20230131-5033.

Comment Date: 5 p.m. ET 2/13/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2023.
Debbie-Anne A. Reese,
Deputy Secretary.

[FR Doc. 2023-03869 Filed 2-23-23; 8:45 am]

BILLING CODE 6717-01-P